DEPARTMENT OF ENERGY

Federal Energy Regulatory Commission

Combined Notice of Filings #1

March 18, 2010.

Take notice that the Commission received the following electric rate filings:

Docket Numbers: ER96-1551-022; ER09-746-003; ER01-615-018.

Applicants: Public Service Company of New Mexico; Optim Energy Marketing, LLC.

Description: Public Service Company of New Mexico et al. submits Supplement to Triennial Market Power Update.

Filed Date: 03/08/2010.

Accession Number: 20100315-0088.

Comment Date: 5 p.m. Eastern Time on Monday, March 29, 2010.

Docket Numbers: ER06-733-007.

Applicants: Midland Cogeneration Venture Limited Partnership.

Description: Notice of Non-Material Change in Status of Midland Cogeneration Venture Limited Partnership.

Filed Date: 03/15/2010.

Accession Number: 20100315-5240.

Comment Date: 5 p.m. Eastern Time on Monday, April 5, 2010.

Docket Numbers: ER10-520-001.

Applicants: PJM Interconnection, L.L.C.

Description: PJM Interconnection, LLC submits Wholesale Market Participation Agreement designated as Second Revised Service Agreement No. 1688, effective 2/28/2010 with WM Renewable Energy LLC et al.

Filed Date: 03/17/2010.

Accession Number: 20100318-0204.

Comment Date: 5 p.m. Eastern Time on Wednesday, April 7, 2010.

Docket Numbers: ER10-730-000.

Applicants: Wheelabrator Portsmouth Inc.

Description: Supplemental Information of Wheelabrator Portsmouth Inc.

Filed Date: 03/09/2010.

Accession Number: 20100309-5082.

Comment Date: 5 p.m. Eastern Time on Tuesday, March 30, 2010.

Docket Numbers: ER10-854-001.

Applicants: CornerStone Power Development, LLC.

Description: CornerStone Power Development, LLC submits updates to the market based rate application filed 3/12/2010.

Filed Date: 03/16/2010.

Accession Number: 20100317-0208.

Comment Date: 5 p.m. Eastern Time on Friday, March 26, 2010.

Docket Numbers: ER10-900-000.

Applicants: Black Hills Power, Inc.

Description: Black Hills Power Inc submits notice of cancellation of its Rate Schedule FERC No. 48.

Filed Date: 03/17/2010.

Accession Number: 20100318-0203.

Comment Date: 5 p.m. Eastern Time on Wednesday, April 7, 2010.

Docket Numbers: ER10-901-000.

Applicants: PJM Interconnection, L.L.C.

Description: PJM Interconnection, LLC submits executed Wholesale Market Participation Agreement with Dauphin County Industrial Development Authority and PPL Electric Utilities Corporation.

Filed Date: 03/17/2010.

Accession Number: 20100318-0202.

Comment Date: 5 p.m. Eastern Time on Wednesday, April 7, 2010.

Docket Numbers: ER10-902-000.

Applicants: ISO New England Inc. & New England Power Pool.

Description: ISO New England Inc et al. submit revised tariff sheets implementing changes to Market Rule 1.

Filed Date: 03/17/2010.

Accession Number: 20100318-0201.

Comment Date: 5 p.m. Eastern Time on Wednesday, April 7, 2010.

Docket Numbers: ER10-905-000.

Applicants: California Power Exchange Corporation.

Description: Petition to Extend Existing Wind-Up Charge Settlement of California Power Exchange Corporation.

Filed Date: 03/18/2010.

Accession Number: 20100318-5034.

Comment Date: 5 p.m. Eastern Time on Thursday, April 8, 2010.

Take notice that the Commission received the following electric reliability filings:

Docket Numbers: RR10-8-000.

Applicants: North American Electric Reliability Corporation.

Description: Errata to the North American Electric Reliability Corporation 3/15/10 filing, to Correct Attachment 1 of NERC's March 15, 2010 Petition for Approval of Amendments to the NERC Rules of Procedure Regarding the CCC Program.

Filed Date: 03/16/2010.

Accession Number: 20100316-5079.

Comment Date: 5 p.m. Eastern Time on Tuesday, April 6, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-6702 Filed 3-25-10; 8:45 am]

BILLING CODE 6717-01-P